DEPARTMENT OF COMMERCE

Foreign-Trade Zones Board

[B-20-2026]

Foreign-Trade Zone (FTZ) 93, Notification of Proposed Production Activity; Alder SOL Holdings LLC dba StayOnline; (Power Cords); Henderson, North Carolina

Alder SOL Holdings LLC dba StayOnline submitted a notification of proposed production activity to the FTZ Board (the Board) for its facility in Henderson, North Carolina within FTZ 93. The notification conforming to the requirements of the Board's regulations (15 CFR 400.22) was received on February 12, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: Power cords and Adapters (duty rate is 2.6%).

The proposed foreign-status materials/components include: Rewireable Plugs; Rewireable Connectors; Rewireable Receptacles; Rewireable Inlets; Vinyl chloride polymer molding resin; Bulk cords of Service Junior Thermoplastic (SJT) wire; Bulk Wire, SVT; Bulk Wire, SJTW; Bulk Wire, STE; Bulk Wire, SJTOOW; Bulk Wire, SJTOW; Bulk Wire, SOOW; Bulk Wire, YY; Bulk Wire, HO7RN; Bulk Wire, HO5VV; Bulk Wire, HO3VV; Bulk Wire, LSZH; Bulk Wire, TPE; Bulk Wire, TPU; Bulk Wire, PUR; Bulk Wire, Shielded; Plastic Molding Components; and Nickel-plated copper Terminal Components (duty rate ranges from duty-free to 6.5%).

The request indicates that certain materials/components may be subject to duties under section 1702(a)(1)(B) of the International Emergency Economic Powers Act (section 1702), or section 301 of the Trade Act of 1974 (section 301), depending on the country of origin. The applicable section 1702 and section 301 decisions require subject merchandise to be admitted to FTZs in privileged foreign status (19 CFR 146.41).

Public comment is invited from interested parties. Submissions shall be addressed to the Board's Executive Secretary and sent to: ftz@trade.gov. The closing period for their receipt is April 6, 2026.

A copy of the notification will be available for public inspection in the “Online FTZ Information System” section of the Board's website.

For further information, contact John Frye at John.Frye@trade.gov.

Dated: February 20, 2026.
Elizabeth Whiteman,
Executive Secretary.

[FR Doc. 2026-03682 Filed 2-23-26; 8:45 am]

BILLING CODE 3510-DS-P